DEPARTMENT OF ENERGY

Federal Energy Regulatory Commission

[Docket No. CP17-62-000]

Gulf South Pipeline Company, LP; Notice of Intent To Prepare a Supplemental Environmental Assessment for the Amended Coastal Bend Header Project and Request for Comments on Environmental Issues

The staff of the Federal Energy Regulatory Commission (FERC or Commission) will prepare an environmental assessment (EA) that will discuss the environmental impacts of the amendment to the Coastal Bend Header Project (Project) involving construction and operation of facilities by Gulf South Pipeline Company, LP (Gulf South) in southeastern Texas. The Commission will use this EA in its decision-making process to determine whether the amendment to the Project is in the public convenience and necessity.

This notice announces the opening of the scoping process the Commission will use to gather input from the public and interested agencies on the Project. Your input during the scoping process will help the Commission staff determine what issues need to be evaluated in the EA. Your comments should focus on the potential environmental effects, reasonable alternatives, and measures to avoid or lessen environmental impacts. Please note that the scoping period will close on March 31, 2017.

Further details on how to submit written comments are in the Public Participation section of this notice. If you sent comments on this project to the Commission before the opening of this docket on November 5, 2014, you will need to file those comments in Docket No. CP17-62-000 to ensure they are considered as part of this proceeding.

This notice is being sent to the Commission's current environmental mailing list for this Project and includes landowners affected by the amended Project. State and local government officials are asked to notify their constituents of this planned Project and encourage them to comment on their areas of concern.

A fact sheet prepared by the FERC entitled “An Interstate Natural Gas Facility on My Land? What Do I Need to Know?” is available for viewing on the FERC Web site (www.ferc.gov). This fact sheet addresses a number of typically asked questions, including the use of eminent domain and how to participate in the Commission's proceedings.

Public Participation

You can make a difference by providing us with your specific comments or concerns about the Project. Your comments should focus on the potential environmental effects, reasonable alternatives, and measures to avoid or minimize environmental impacts. The more specific your comments, the more useful they will be. To ensure that your comments are timely and properly recorded, please send your comments so the Commission receives them in Washington, DC on or before March 31, 2017.

For your convenience, there are three methods you can use to submit your comments to the Commission. In all instances, please reference the Project docket number (CP17-62-000) with your submission. The Commission encourages electronic filing of comments and has expert staff available to assist you at (202) 502-8258 or efiling@ferc.gov.

1. You can file your comments electronically using the eComment feature located on the Commission's Web site (www.ferc.gov) under the link to Documents and Filings. This is an easy method for interested persons to submit brief, text-only comments on a project;

2. You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

3. You can file a paper copy of your comments by mailing them to the following address: Kimberly D. Bose, Secretary, Federal Energy Regulatory Commission, 888 First Street NE., Room 1A, Washington, DC 20426.

Summary of the Planned Project and Proposed Amendment

On June 12, 2015, Gulf South Pipeline Company, LP (Gulf South) filed an application with the FERC for the Coastal Bend Header Project (Project), pursuant to Section 7(c) of the Natural Gas Act and Part 157 of the Commission's regulations for a Certificate of Public Convenience and Necessity (Certificate) in Docket No. CP15-517-000. The EA for the Project was placed into the public record on January 29, 2016. On June 20, 2016, the Commission issued an Order Issuing Certificate (Order) to Gulf South authorizing the Project, and Gulf South accepted the Order on June 21, 2016 pursuant to Section 157.20(a) of the Commission's Regulations.

Gulf South has been authorized to construct 64 miles of 36-inch diameter pipeline in Wharton and Brazoria Counties, Texas, a new compressor station in Wharton County along the new pipeline, and two new compressor stations and upgrades at two compressor stations along Gulf South's existing Index 129 pipeline in Fort Bend, Harris, Polk, and Sabine Counties, Texas. The new pipeline would enable delivery of 1.54 billion cubic feet per day (bcf/d) of natural gas to the proposed Freeport Liquefied Natural Gas (LNG) Export Terminal near Freeport, Texas. Gulf South's planned in-service date for Project facilities is spring 2018.

On September 25, 2015, Gulf South filed a Stipulation and Agreement of Settlement in its recent rate case, in Docket No. RP15-65-000 (Settlement), which was approved by the Commission on December 18, 2015. In order to accommodate volumes associated with the Project and volumes associated with contractual modifications by Gulf South's existing shipper, CenterPoint Energy Resources Corporation, in the Settlement that occurred after the filing of the Project, Gulf South was required to increase the size of the currently certificated gas-fired turbine compressor unit at its Magasco Compressor Station in Sabine County, Texas.

On February 22, Gulf South filed a Section 7(c) application to amend its Order issued by the Commission on June 20, 2016. In this amendment, Gulf South now seeks Commission authorization to incorporate a modification to the compressor unit to be installed at the Magasco Compressor Station, which is located along Gulf South's Index 129 legacy system. Gulf South is proposing to install a Solar Titan 130 compressor unit, rather than a Solar Mars 100 compressor unit as proposed in the June 2015 FERC application and approved in the June 20, 2016 Order. The Solar Titan 130 compressor unit is capable of generating approximately 20,482 brake-horsepower (bhp) of compression, which is an increase of approximately 4,734 bhp compared to the previously authorized Solar Mars 100 compressor unit. Gulf South also proposes to modify the emergency generator from an 800 bhp unit to a 691 bhp unit.

The location of the Magasco Compressor Station and the approved pipeline facilities are depicted in the figures in Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Gulf South does not propose any additional modifications to the station yard piping and ancillary equipment that would be installed along with the compressor unit. Therefore, there would be no change in land requirements for the Project.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. All comments received will be considered during the preparation of the EA.

² “Us,” “we,” and “our” refer to the environmental staff of the Commission's Office of Energy Projects.

In the EA we will discuss impacts that could occur as a result of the construction and operation of the planned Project under these general headings:

• Geology and soils;

• water resources;

• wetlands and vegetation;

• fish and wildlife including migratory birds;

• threatened and endangered species;

• land use, recreation, and visual resources;

• air quality and noise;

• cultural resources;

• reliability and safety; and

• cumulative environmental impacts.

We will also evaluate reasonable alternatives to the proposed Project modification including the no action alternative, and make recommendations on how to minimize or avoid impacts on affected resources.

The supplemental EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section beginning on page 5.

With this notice, we are asking agencies with jurisdiction by law and/or special expertise with respect to the environmental issues related to this Project to formally cooperate with us in the preparation of the EA.³ Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's regulations for Section 106 of the National Historic Preservation Act, we are using this notice to initiate consultation with the Texas Historical Commission which has been given the role of the State Historic Preservation Officer (SHPO) for Texas, and to solicit the SHPO's view and those of other government agencies, interested Indian tribes, and the public on the Project's potential effects on historic properties.⁴ We will define the Project-specific Area of Potential Effects in consultation with the SHPO as the Project is further developed. Our environmental document for the Project will document our findings of the impacts on historic properties and summarize the status of consultations under Section 106.

⁴ The Advisory Council on Historic Preservation regulations are at Title 36, Code of Federal Regulations, Part 800. Those regulations define historic properties as any prehistoric or historic district, site, building, structure, or object included in or eligible for inclusion in the National Register for Historic Places.

Currently Identified Environmental Issues

The proposed increase of 4,734 bhp in compression at Magasco Compressor Station would have a potential impact on air quality and noise emissions.

Environmental Mailing List

The environmental mailing list includes federal, state, and local government representatives and agencies; elected officials; environmental and public interest groups; Native American Tribes; other interested parties; and local libraries and newspapers. This list also includes all identified landowners who own homes within one-half-mile of the Magasco Compressor Station, and anyone who submits comments on the Project. We will update the environmental mailing list as the analysis proceeds to ensure that we send the information related to this environmental review to all individuals, organizations, and government entities interested in and/or potentially affected by the proposed Project.

When an EA is published for distribution, copies will be sent to the environmental mailing list for public review and comment. If you would prefer to receive a paper copy of the document instead of the CD version, or would like to remove your name from the mailing list, please return the attached Information Request (Appendix 2).

Becoming an Intervenor

In addition to involvement in the supplemental EA scoping process, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP17-62). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of filings, document summaries, and direct links to the documents. Go to www.ferc.gov/esubscribenow.htm.

Finally, Gulf South has established a Web site for the Project at http://www.gulfsouthpl.com/ExpansionProjects.aspx?id=4294967425. The Web site includes a description of the Project, permitting schedules and calendars, frequently asked questions and responses, and links to related press releases and news articles. You can also request additional information directly from Gulf South at (844) 211-6282 or by clicking on the following link on the Gulf South Web site that will take you to an online submittal form: http://www.gulfsouthpl.com/ExpansionProjects.aspx?ekfrm=4294967452.

Dated: March 1, 2017.
Kimberly D. Bose,
Secretary.

[FR Doc. 2017-04379 Filed 3-6-17; 8:45 am]

BILLING CODE 6717-01-P